DEPARTMENT OF DEFENSE

Office of the Secretary

[Transmittal No. 25-1E]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-1E.

Dated: January 22, 2026.
Stephanie J. Bost,
Alternate OSD Federal Register Liaison Officer, Department of Defense.

BILLING CODE 6001-FR-P

BILLING CODE 6001-FR-C

Transmittal No. 25-1E

REPORT OF ENHANCEMENT OR UPGRADE OF SENSITIVITY OF TECHNOLOGY OR CAPABILITY (SEC. 36(B)(5)(C), AECA)

(i) Prospective Purchaser: Republic of Korea

(ii) Sec. 36(B)(1), AECA Transmittal No.: 21-31

Date: March 19, 2021

Implementing Agency: Army

(iii) Description: On March 19, 2021, Congress was notified by congressional certification transmittal number 21-31 of the possible sale, under Section 36(b)(1) of the Arms Export Control Act, of two hundred eighty-eight (288) AGM-114R Hellfire missiles. Also included were AGM-114R spare parts; United States (U.S.) Government and contractor engineering, technical, and logistics support services; repair and return; storage; and other related elements of logistics and program support. The estimated total value was $36 million. Major Defense Equipment (MDE) constituted $33 million of this total.

On October 1, 2021, Congress was notified by congressional certification transmittal number 0P-21, under Section 36(b)(5)(A) of the Arms Export Control Act, of an increase in value of the AGM-114R Hellfire missiles. The estimated total increase in MDE value was $9 million. This resulted in a total cost of MDE value of $42 million. The total case value increased to $47 million.

This transmittal notifies the inclusion of the following additional MDE items: up to one thousand and twenty-two (1,022) AGM-114R Hellfire missiles. The following non-MDE is also included: spare parts; U.S. Government and contractor technical, engineering, and logistics support services; and other related elements of logistics and program support. The estimated total value of the new items is $400 million. The estimated non-MDE value will increase by $50 million to a revised $55 million. The revised estimated total case value will be $447 million. MDE will constitute $392 million of this total.

(iv) Significance: This notification is being provided as the additional MDE items were not enumerated in the original notification. The inclusion of this MDE represents an increase in capability over what was previously notified. The proposed sale will improve the Republic of Korea's air and missile defense capability and ensure greater interoperability with other Hellfire missile users in the region.

(v) Justification: This proposed sale will support the foreign policy and national security objectives of the U.S. by improving the security of a major non-NATO ally that is a force for political stability and economic progress in the Pacific region.

(vi) Sensitivity of Technology:

The Sensitivity of Technology Statement contained in the original notification applies to items reported here.

The highest level of classification of defense articles, components, and services included in this potential sale is SECRET.

(vii) Date Report Delivered to Congress: September 9, 2025

[FR Doc. 2026-01484 Filed 1-26-26; 8:45 am]

BILLING CODE 6001-FR-P